FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011383-041.

Title: Venezuelan Discussion Agreement.

Parties: Hamburg-Süd, Seaboard Marine Ltd., King Ocean Service de Venezuela, and SeaFreight Line, Ltd.

Filing Party: Wayne R. Rohde, Esq.; Sher & Blackwell LLP; 1850 M Street, NW.; Suite 900; Washington, DC 20036.

Synopsis: The amendment deletes the requirement that members post a financial security with the Agreement secretariat and makes the necessary conforming changes.

Agreement No.: 011550-012.

Title: ABC Discussion Agreement.

Parties: Hamburg-Süd, King Ocean Services Limited, and Seafreight Line, Ltd.

Filing Party: Wayne R. Rohde, Esq.; Sher & Blackwell LLP; 1850 M Street, NW.; Suite 900; Washington, DC 20036.

Synopsis: The amendment deletes the requirement that members post a financial security with the Agreement secretariat and makes the necessary conforming changes.

Agreement No.: 011884-003.

Title: Hampton Road Chassis Pool II Agreement.

Parties: Virginia International Terminals, Inc., and the Ocean Carrier Equipment Management Association, for itself and on behalf of the following of its member lines: APL Co. Pte. Ltd.; American President Lines, Ltd.; Atlantic Container Line; CMA CGM, S.A.; Compania Sud Americana de Vapores, S.A.; COSCO Container Lines Company Limited; Evergreen Marine Corp. (Taiwan) Ltd.; Hanjin Shipping Co., Ltd.; Hamburg-Süd; Hapag-Lloyd AG; Hyundai Merchant Marine Co. Ltd.; Kawasaki Kisen Kaisha, Ltd.; CP Ships USA, LLC; Mitsui O.S.K. Lines Ltd.; Nippon Yusen Kaisha Line; Orient Overseas Container Line Limited; and Yang Ming Marine Transport Corp.

Filing Party: Wayne R. Rohde, Esq.; Sher & Blackwell LLP; 1850 M Street, NW.; Suite 900; Washington, DC 20036.

Synopsis: The amendment would delete Australia-New Zealand Direct Line, a division of CP Ships (UK) Limited and Contship Containerlines, a division of CP Ships (UK) Limited; change the name of CP Ships USA, LLC to Hapag-Lloyd USA, LLC; and replace COSCO Container Lines Company Limited with COSCO Container Lines (Hong Kong) Co., Limited.

Agreement No.: 011990.

Title: HSDG/Maersk Slot Charter Agreement.

Parties: Hamburg-Süd; Alianca Navegacao e Logistica Ltda. e CIA; and A.P. Moller Maersk A/S.

Filing Party: Wayne R. Rohde, Esq.; Sher & Blackwell LLP; 1850 M Street, NW.; Suite 900; Washington, DC 20036.

Synopsis: The agreement authorizes Hamburg-Süd and Alianca to charter space to Maersk on vessels operating between the U.S. East Coast and Brazil, Argentina, and Uruguay. The parties request Expedited Review.

By Order of the Federal Maritime Commission.
Dated: March 9, 2007.
Bryant L. VanBrakle,
Secretary.

[FR Doc. E7-4664 Filed 3-13-07; 8:45 am]

BILLING CODE 6730-01-P